DEPARTMENT OF AGRICULTURE

Farm Service Agency

Information Collection; Data on Nonresident Applicants

AGENCY: Farm Service Agency, USDA.

ACTION: Notice; request for comments.

SUMMARY: In accordance with the Paperwork Reduction Act of 1995, the Farm Service Agency (FSA) is requesting comments from all interested individuals and organizations on a new information collection that will be used to determine the applicant's citizenship.

DATES: We will consider comments that we receive by March 30, 2015.

ADDRESSES: We invite you to submit comments on this notice. In your comments, include date, volume, and page number of this issue of the Federal Register. You may submit comments by any of the following methods:

• Federal eRulemaking Portal: Go to www.regulations.gov. Follow the online instructions for submitting comments.

• Mail: Jackie Pickens, USDA/FSA/FMD, STOP 0581, Patriot Plaza III, 355 E. Street SW., Washington, DC 20024.

You may also send comments to the Desk Officer for Agriculture, Office of Information and Regulatory Affairs, Office of Management and Budget, Washington, DC 20503. Copies of the information collection may be requested by contacting Jackie Pickens at the above address.

FOR FURTHER INFORMATION CONTACT: Jackie Pickens; (615) 277-2613.

SUPPLEMENTARY INFORMATION: Title: Data on Nonresident.

OMB Number: 0560-NEW.

Type of Request: New.

Abstract: FSA is using the FSA-500 Data on Nonresident Applicants, to verify each applicant's citizenship, if applications for payments are filed by or for applicants who reside outside the United States, its territories or possessions, even if the application is filed by an agent of the applicant whose address is in the United States. County office employees provide the FSA-500 to the nonresident applicants or agents to complete the form. The FSA-500 request the applicant's name, address, United States citizenship and signature of applicant or authorized agent. The completed returned form will be filed at the County office. The data collected on the FSA-500 will assist with ensuring foreign taxes are collected and reported to the IRS.

The formula used to calculate the total burden hour is estimated average time per responses hours times total annual responses.

Estimate of Respondent Burden: Public reporting burden for this information collection is estimated to average 0.0833 hours per response. The average travel time, which is included in the total burden, is estimated to be 1 hour per respondent.

Respondents: Individuals or households, businesses or other for profit farms.

Estimated Annual Number of Respondents: 55.

Estimated Number of Reponses per Respondent: 1.

Estimated Total Annual Responses: 55.

Estimated Average Time per Response: 1.0833.

Estimated Total Annual Burden on Respondents: 60.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed on January 23, 2015.
Val Dolcini,
Administrator, Farm Service Agency.

[FR Doc. 2015-01651 Filed 1-28-15; 8:45 am]

BILLING CODE 3410-05-P